ENVIRONMENTAL PROTECTION AGENCY

40 CFR Part 81

[EPA-HQ-OAR-2011-0572; FRL-9430-4]

EPA Responses to State and Tribal 2010 NO2 Designation Recommendations: Notice of Availability and Public Comment Period

AGENCY: Environmental Protection Agency (EPA).

ACTION: Notice of availability and public comment period.

SUMMARY: Notice is hereby given that the EPA has posted its responses to state and tribal designation recommendations for the 2010 Primary Nitrogen Dioxide (NO2) National Ambient Air Quality Standard (NAAQS) on its Internet website. The EPA invites public comments on its responses during the 30-day comment period specified in the DATES section. The EPA sent responses directly to the states and tribes on June 29, 2011, and plans to make final designations determinations for the 2010 Primary NO2 NAAQS by October 31, 2011.

DATES: Comments must be received on or before August 8, 2011. Please refer to SUPPLEMENTARY INFORMATION for additional information on the comment period.

ADDRESSES: Submit your comments, identified by Docket ID No. OAR-2011-0572 by one of the following methods:

• http://www.regulations.gov. Follow the on-line instructions for submitting comments.

• E-mail: a-and-r-docket@epa.gov. Attention Docket ID No. EPA-HQ-OAR-2011-0572.

• Fax: 202-566-9744. Attention Docket ID No. EPA-HQ-OAR-2011-0572.

• Mail: Air Docket, Attention Docket ID No. EPA-HQ-OAR-2011-0572, Environmental Protection Agency, Mail Code: 6102T, 1200 Pennsylvania Ave., NW., Washington, DC 20460.

• Hand Delivery: EPA Docket Center, 1301 Constitution Avenue, NW., Room 3334, Washington, DC. Such deliveries are only accepted during the Docket's normal hours of operation, and special arrangements should be made for deliveries of boxed information.

Instructions: Direct your comments to Docket ID No. EPA-HQ-OAR-2011-0572. The EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The http://www.regulations.gov Web site is an “anonymous access” system, which means the EPA will not know your identity or contact information unless you provide it in the body of your comment. If you send an email comment directly to the EPA without going through http://www.regulations.gov, your e-mail address will be automatically captured and included as part of the comment that is placed in the public docket and made available on the Internet. If you submit an electronic comment, the EPA recommends that you include your name and other contact information in the body of your comment and with any disk or CD-ROM you submit. If the EPA is unable to read your comment and cannot contact you for clarification due to technical difficulties, the EPA may not be able to consider your comment. Electronic files should avoid the use of special characters, any form of encryption, and be free of any defects or viruses. For additional information about the EPA's public docket, visit the EPA Docket Center homepage at http://www.epa.gov/epahome/dockets.htm. For additional instructions on submitting comments, go to Section II of the SUPPLEMENTARY INFORMATION section of this document.

Docket: All documents in the docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the EPA Docket Center, EPA West, Room 3334, 1301 Constitution Avenue, NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For general questions concerning this action, please contact Doug Solomon, U.S. EPA, Office of Air Quality Planning and Standards, Air Quality Planning Division, C539-04, Research Triangle Park, NC 27711, telephone (919) 541-4132, e-mail at solomon.douglas@epa.gov. For questions regarding the EPA Region 1, please contact Donald Dahl, U.S. EPA, telephone (617) 918-1657, e-mail at dahl.donald@epa.gov. For questions regarding the EPA Region 2, please contact Raymond Werner, U.S. EPA, telephone (212) 637-3706, e-mail at werner.raymond@epa.gov. For questions regarding the EPA Region 3, please contact Gregory Becoat, U.S. EPA, telephone (215) 814-2036, e-mail at becoat.gregory@epa.gov. For questions regarding the EPA Region 4, please contact Steve Scofield, U.S. EPA, telephone (404) 562-9034, e-mail at scofield.steve@epa.gov. For questions regarding the EPA Region 5, please contact Gilberto Alvarez, U.S. EPA, telephone (312) 886-6143, e-mail at alvarez.gilberto@epa.gov. For questions regarding the EPA Region 6, please contact Alan Shar, U.S. EPA, telephone (214) 665-6691, e-mail at shar.alan@epa.gov. For questions regarding the EPA Region 7, please contact Elizabeth Kramer, U.S. EPA, telephone (913) 551-7186, email at kramer.elizabeth@epa.gov. For questions regarding the EPA Region 8, please contact Crystal Freeman, U.S. EPA, telephone (303) 312-6602, e-mail at freeman.crystal@epa.gov. For questions regarding the EPA Region 9, please contact Frances Wicher, U.S. EPA, telephone (415) 972-3957, e-mail at wicher.frances@epa.gov. For questions regarding the EPA Region 10, please contact Claudia Vaupel, U.S. EPA, telephone (206) 553-6121, e-mail at vaupel.claudia@epa.gov.

SUPPLEMENTARY INFORMATION:

I. Purpose

The purpose of this notice is to solicit public comments from interested parties other than states and tribes on the EPA's recent responses to the state and tribal designation recommendations for the 2010 Primary NO2 NAAQS. The Clean Air Act (CAA) section 107(d) provides a process for designations that involves recommendations by states and tribes to the EPA and responses from the EPA to those parties, prior to the EPA promulgating final designations and boundaries. The EPA is not required under CAA section 107(d) to seek public comment during the designation process, but is electing to do so for the 2010 Primary NO2 NAAQS in order to gather additional information for EPA to consider before making final designations. The EPA invites public comment on its responses to states and tribes during the 30-day comment period provided in this notice. Due to the statutory timeframe for promulgating designations set out in CAA section 107(d), the EPA will not be able to consider any comments submitted after August 8, 2011, notwithstanding what may have appeared in any state-specific announcements. This notice and opportunity for public comment does not affect any rights or obligations of any state, tribe or the EPA which might otherwise exist pursuant to CAA section 107(d).

Please refer to the ADDRESSES section in this document for specific instructions on submitting comments and locating relevant public documents.

• In providing comments to the EPA please consider the agency's charge under CAA section 107(d). Under this section, the EPA is obligated to identify every area as attainment, nonattainment, or unclassifiable. Further, in establishing nonattainment area boundaries, the agency is required to identify the area that does not meet the 2010 Primary NO2 standard and any nearby area that is contributing to the area that does not meet that standard. If you believe that a specific geographic area that the EPA is proposing to identify as a nonattainment area should not be categorized by the section 107(d) criteria as nonattainment, or if you believe that a specific area not proposed by the EPA to be identified as a nonattainment area should in fact be categorized as nonattainment using the section 107(d) criteria, please be as specific as possible in supporting your belief.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Instructions for Submitting Public Comments

A. What should I consider as I prepare my comments for the EPA?

1. Submitting CBI. Do not submit this information to the EPA through http://www.regulations.gov or e-mail. Clearly mark the part or all of the information that you claim to be CBI. For CBI information in a disk or CD-ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address: Roberto Morales, U.S. EPA, Office of Air Quality Planning and Standards, Mail Code C404-02, Research Triangle Park, NC 27711, telephone (919) 541-0880, e-mail at morales.roberto@epa.gov, Attention Docket ID No. OAR-2011-0572.

2. Tips for Preparing Your Comments. When submitting comments, remember to:

• Identify the rulemaking by docket number and other identifying information (subject heading, Federal Register date and page number).

• Follow directions. The agency may ask you to respond to specific questions or organize comments by referencing a Code of Federal Regulations (CFR) part or section number.

• Explain why you agree or disagree; suggest alternatives and substitute language for your requested changes.

III. Background

The process for designating areas following promulgation of a new or revised NAAQS is contained in CAA section 107(d) (42 U.S.C. 7407). Following the promulgation of a new or revised standard, each Governor or Tribal Leader has an opportunity to recommend air quality designations, including the appropriate boundaries for nonattainment areas, to the EPA. The EPA considers these recommendations as part of its duty to promulgate the formal area designations and boundaries for the new or revised standards. By no later than 120 days prior to promulgating designations, the EPA is required to notify states or tribes of any intended modification to an area designation or boundary recommendation that the EPA deems necessary. On or around June 29, 2011, the EPA notified states and tribes of its intended area designations for the 2010 Primary NO2 NAAQS. States and tribes now have an opportunity to demonstrate why they believe a modification proposed by the EPA may be inappropriate. In these responses, the EPA encourages states and tribes to provide comments and additional information for consideration by the EPA in finalizing designations. The EPA plans to make final designation determinations for the 2010 Primary NO2 NAAQS by October 31, 2011.

IV. Internet Web Site for Rulemaking Information

The EPA has also established a Web site for this rulemaking at http://www.epa.gov/no2designations. The Web site includes the EPA's state and tribal designation recommendations, as well as the rulemaking actions and other related information that the public may find useful.

Dated: June 29, 2011.
Mary E. Henigin,
Acting Director, Office of Air Quality Planning and Standards.

[FR Doc. 2011-17060 Filed 7-6-11; 8:45 am]

BILLING CODE 6560-50-P